DEPARTMENT OF AGRICULTURE

Forest Service

Sierra County, CA, Resource Advisory Committee

AGENCY: Forest Service, USDA.

ACTION: Notice of meeting.

SUMMARY: The Sierra County Resource Advisory Committee (RAC) will meet on January 14, 2002, in Sierraville, California. The purpose of the meeting is to discuss issues relating to implementing the Secure Rural Schools and Community Self-Determination Act of 2000 (Payments to States) and the expenditure of Title II funds benefiting National Forest System lands on the Humboldt-Toiyabe, Plumas and Tahoe National Forests in Sierra County.

DATES: The meeting will be held January 4, 2002 from 1:30 p.m. to 4:30 p.m. If a storm or other difficulty presents itself, a backup meeting date is scheduled for January 28, 2001, at the same time and location.

ADDRESSES: The meeting will be held at the Sierraville Ranger Station conference room, 317 S. Lincoln (Hwy 89), Sierraville, CA.

FOR FURTHER INFORMATION CONTACT: Ann Westling, Committee Coordinator, USDA, Tahoe National Forest, 631 Coyote St, Nevada City, CA, 95959, (530) 478-6205, e-mail: awestling@fs.fed.us.

SUPPLEMENTARY INFORMATION: Agenda items to be covered include: (1) Welcome and introductions; (2) Review of previous meeting, meeting minutes, and Pub. L. 106-393; (3) Presentation on National Fire Plan and other funding sources; (4) Discussion and decision on criteria for Sierra County RAC projects; (5) Presentation of project ideas; and (6) Preliminary ranking of project ideas. The meeting is open to the public. Public input opportunity will be provided during each agenda item and individuals will have the opportunity to address the Committee at that time.

Dated: December 11, 2001.
Steven T. Eubanks,
Forest Supervisor.

[FR Doc. 01-31203 Filed 12-18-01; 8:45 am]

BILLING CODE 3410-11-M